DEPARTMENT OF HOUSING AND URBAN DEVELOPMENT

[Docket No. FR-4693-N-01]

Notice of Funding Availability: Fair Housing Initiatives Program Education and Outreach—National Program—Model Codes Partnership Component

AGENCY: Office of the Assistant Secretary for Fair Housing and Equal Opportunity, HUD.

ACTION: Notice of funding availability (NOFA).

SUMMARY: Purpose of the Program. The purpose of the Fair Housing Initiatives Program (FHIP) is to increase compliance with the Fair Housing Act (the FHAct) and with substantially equivalent State and local fair housing laws. The activities funded under the Education and Outreach-National Program, Model Codes Partnership Component will seek to promote a collaborative partnership among builders and other housing industry providers and associations and disability advocacy or fair housing groups to encourage the adoption of model building codes at the State and local level that are consistent with the accessibility requirements of the Fair Housing Act, its regulations and the Fair Housing Accessibility Guidelines. This component first was announced in the Fiscal Year 2000 FHIP NOFA. However, no timely applications for that component were received; therefore, HUD again is soliciting applications in this NOFA.

SUPPLEMENTARY INFORMATION: If you are interested in applying for funding, please carefully review the Fair Housing Initiatives Program (FHIP) authorizing statute (Sec. 561 of the Housing and Community Development Act of 1987, as amended), and the FHIP Regulations (24 CR 125.103-501).

Available Funds: Approximately $1 million.

Application Deadline: August 24, 2001.

Match: None.

Application Due Date and Application Submission Procedures

Application Due Date

Your completed application must be submitted to HUD Headquarters, on or before 12:00 Midnight, Eastern Daylight Savings time, on or before August 24, 2001.

Application Submission Procedures

Mailed Applications. Your application will be considered timely filed if it is postmarked on or before 12:00 midnight, Eastern Daylight Savings time on the application due date and received by the designated HUD address on or within ten (10) days after the application due date.

Applications Sent by Overnight/Express Mail Delivery. If your application is sent by overnight delivery or express mail, your application will be timely filed if it is received before or on the application due date, or when you submit documentary evidence that your application was placed in transit with the overnight delivery/express mail service by no later than the application due date and received by the designated HUD office within ten (10) days after the application due date.

Hand Carried Applications. Complete, assembled applications must be submitted to HUD Headquarters. Hand carried applications delivered before and on the application due date must be brought to the specified location at HUD Headquarters and room number between the hours of 8:45 am to 5:15 p.m., Eastern Daylight Savings time. Applications hand carried on the application due date will be accepted in the South Lobby of the HUD Headquarters Building from 5:15 p.m. until 12 midnight, Eastern Daylight Savings time. This deadline date is firm. Please make appropriate arrangements to arrive at the HUD Headquarters Building before 12 midnight, Eastern Daylight Savings time on the application due date.

Address for Submitting Applications. Your completed application consists of an original signed application and five copies. Submit your completed application to: FHIP EOI—National Program, Model Codes Partnership Component; FHIP/FHAP Support Division, Office of Fair Housing and Equal Opportunity; U.S. Department of Housing and Urban Development; 451 Seventh Street, SW., Room 5224, Washington, DC 20410. When you submit your application, please provide the following information at the front top left corner of the mailing envelope: your organization's name, name of contact person, mailing address (including zip code), telephone number (including area code), and fax number (including area code).

FOR FURTHER INFORMATION CONTACT: Lauretta A. Dixon, Myron P. Newry, or Denise L. Brooks of the FHIP/FHAP Support Division, at 202-708-0800. (This is not a toll-free number.) Persons with a hearing or speech impairment may call 1-800-290-1617 (This is a toll-free number). There is no application kit for this program.

I. Amount Allocated

Approximately $1,000,000 in FY 2000 FHIP-EOI—National Program funds is allocated for this Model Codes Partnership Component. HUD anticipates making a single award covering a 24-month period. The award cap (the maximum amount of funds that can be awarded for this grant) is $1,000,000.

II. Initiative/Component; Eligible Applicants; Eligible Activities

(1) Initiative Description

The Education and Outreach Initiative assists projects that inform and educate the public about the rights and obligations under the Act and substantially equivalent State and local fair housing laws.

(2) Component Description

The purpose of this Component is to promote a collaborative partnership among builders and other housing industry providers and associations and disability advocacy or fair housing groups to encourage the adoption of model building and housing codes at the State and local level that are consistent with the accessibility requirements of the Fair Housing Act, its regulations and the Fair Housing Accessibility Guidelines. The Fair Housing Act cannot compel the adoption of model codes but HUD is encouraging jurisdictions to adopt such codes and a model code has been developed by the HUD Working Group for use by jurisdictions that wish to adopt such codes. You may want to ask jurisdictions that have adopted compliant codes to work with you in assisting other jurisdictions.

(3) Eligible Applications

Applications must be submitted on behalf of a partnership of a minimum of two entities, at least one of which is a disability advocacy or fair housing group or organization. The roles of each partner must be clearly delineated. A letter of firm commitment must be included stating that the partner(s) agrees to the proposed Statement of Work and will participate in the Component, if selected for award. If you fail to include this letter of firm commitment with your application but your Statement of Work identifies the activities and tasks to be conducted by each partner, then your failure to provide the letter will be considered a technical deficiency. Your application must identify all subrecipients and consultants/contractors who will work under this Component.

Applicants must conduct a project that is national in scope. Although the Component must operate on a national scale, applicants and their partner(s) need not be national organizations, so long as they have the capacity to conduct a national program. For example, applicants or their partner(s) may collaborate with affiliates or organizations that have affiliates or under some other structure in order to operate throughout the country. Your application must explain why and how the proposed collaborations will work best to accomplish the objectives of this Component.

(4) Eligible Applicants

All applicants must meet the Civil Rights Threshold Requirements referenced in Section III of this NOFA. You are eligible to apply for funding if you are—a qualified fair housing organization (QFHO); a fair housing enforcement organization (FHO); a public or private, for-profit or not-for-profit organization, institution or entity that is formulating or carrying out programs to prevent or eliminate discriminatory housing practices; a State or local government or agency; including those that participate in the Fair Housing Assistance Program (see the list of FHAP agencies at Appendix D). You also must have demonstrated technical expertise in the design and construction requirements of the Fair Housing Amendments Act of 1988, the Fair Housing Accessibility Guidelines, Fair Housing Regulations, the ANSI A117.1 technical standards, and State and local building codes.

Applicants may establish their “demonstrated technical expertise” in many ways; for example: (i) your organization has designed or conducted training or seminars on the accessibility provisions of the Fair Housing Act for building inspectors, architects, housing providers, or developers in a jurisdiction with a building code that incorporates these provisions, or (ii) your organization is thoroughly knowledgeable about design and construction requirements of the Fair Housing Act/Accessibility Guidelines, the ANSI A117.1 technical standards, and State and local building codes. Agendas, course(s) descriptions, specific examples of work experiences and years of experience must be highlighted when establishing demonstrated technical expertise.

(5) Eligible Activities

The following activities are eligible under this Component: conducting educational symposia; distributing existing fair housing materials throughout your project area; providing outreach and information on fair housing through printed and electronic media; and providing outreach to persons with disabilities and/or their support organizations and service housing providers, and the general public regarding the rights of persons with disabilities under the Fair Housing Act. These kinds of activities may be used to accomplish the following objectives under this NOFA:

(a) Assisting State and local jurisdictions that modify their existing building codes so that they are consistent with the accessibility requirements of the Fair Housing Act and the Fair Housing Accessibility Guidelines, and the ANSI A117.1 technical standards;

(b) Educating State and local officials on the requirements of the Fair Housing Act and the Fair Housing Accessibility Guidelines, the ANSI A117.1 technical standards, or the State or local building codes if such codes do not already incorporate requirements that are fully consistent with the Act;

(c) Developing an electronically accessible “Best Practices Directory” for disseminating information to those interested in finding peer communities and organizations that have successfully adopted or revised their model building codes to meet the Fair Housing Act's accessibility requirements, the Fair Housing Accessibility Guidelines, and the ANSI A1171.1 technical standards; or

(d) Providing assistance and reviewing proposed modifications of language to be included in building codes to ensure that such codes meet the Fair Housing Act's accessibility requirements, the Fair Housing Accessibility Guidelines, and the ANSI A1171.1 technical standards.

III. Program Requirements

If awarded a grant, you must comply with all requirements, including the following:

(1) Performance Measures and Products

Your application must demonstrate how your project activities will encourage and facilitate the development and adoption of building and housing codes at the State and local levels that are consistent with the accessibility requirements of the Fair Housing Act. Your application also must contain a strategy for generating project products, with related timelines and milestones. If selected for funding, your final performance measures and products will be negotiated between you and HUD as part of your executed grant agreement.

(2) Reports and Meetings on Performance Measures and Products

You are required to report quarterly on the status of project products against your approved milestones and timelines and meet at least semi-annually with HUD to ensure that project activities satisfy grant requirements. In your final grant report, you must report on the status of the performance measures in a spreadsheet format or other manner specified by the Department.

(3) Project Starting Period

For planning purposes, assume a start date no later than September 30, 2001.

(4) Training

Your proposed budget must include a set-aside of $6,000 for training over a 24 month period. Recipients may use these funds to attend both HUD-sponsored and HUD-approved training. Requests to attend HUD-approved training must be submitted to the Governmental Technical Representative (GTR) for approval in advance of the requested training.

(5) Payment Contingent on Completion

Payments are contingent on the satisfactory completion of your project activities and products as reflected in your grant or cooperative agreement.

(6) Accessibility Requirements

All activities and materials funded by this Program must be accessible to persons with disabilities (See 24 CFR 8.4, 8.6, and 8.54).

(7) Copyright Materials

You may copyright any work that is eligible for copyright protection; however, HUD reserves the right to reproduce, publish, or otherwise use your work for Federal purposes, and to authorize others to do so as outlined in 24 CFR 84.36.

(8) Complaints Against Awardees

Complaints from the public against recipients of EOI-National Program awards must be forwarded to the Director of the FHIP/FHAP Support Division at the Department of Housing and Urban Development, Fair Housing and Equal Opportunity, Headquarters Office, 451 Seventh Street, SW., Room 5230, Washington, DC 20410. If, after notice and consideration of relevant information, HUD concludes that there has been inappropriate conduct, such as a violation of FHIP program requirements, grant, or cooperative agreement terms or conditions or of any other applicable statute, regulation or other requirement, HUD will take appropriate action in accordance with 24 CFR 84.62. Such action may include: written reprimand; consideration of past performance in ranking future FHIP applications; reimbursement of the funds received under the grant; or temporary or permanent denial of participation in the FHIP in accordance with 24 CFR part 24.

(9) Avoiding Double Payments

If you are awarded funds under this NOFA, you and any subreceipients or subcontractor/consultant may not charge or claim credit for the activities performed under this project to any other Federal project.

(10) Federal Requirements and Procedures

If awarded a grant, you and all subrecipients or consultants/contractors must comply with all Federal requirements, including the following:

(a) All Fair Housing and civil rights laws, statutes, regulations and executive orders as enumerated in 24 CFR 5.105(a). If you are a Federally recognized Indian tribe, or one of its instrumentalities, you must comply with the nondiscrimination provisions enumerated at 24 CFR 1000.12;

(b) The Americans with Disabilities Act of 1990 (42 U.S.C. 1201 et seq.), and Title IX of the Education Amendments Act of 1972 (20 U.S.C. 1681 et seq.);

(c) The disclosure requirements and prohibitions of 31 U.S.C. 1352 and implementing regulations at 24 CFR part 87; and

(d) The requirements for funding competitions established by the Department of Housing and Urban Development Reform Act of 1989 (42 U.S.C. 3531 et seq.).

(11) Accessible Technology

The Rehabilitation Act Amendments of 1998 apply to all electronic information technology (EIT) used by a grantee for transmitting, receiving, using, or storing information to carry out the responsibilities of any federal grant awarded. It includes, but is not limited to, computers (hardware, software, wordprocessing, email, and webpages) facsimile machines, copiers, and telephones. Recipients of HUD funds when developing, procuring, maintaining, or using EIT must ensure that the EIT allows:

(a) Employees with disabilities to have access to and use information and data that is comparable to the access and use of data by employees who do not have disabilities; and

(b) Members of the public with disabilities seeking information or service from a grantee must have access to and use of information and data comparable to the access and use of data by members of the public who do not have disabilities.

If these standards impose on a funding recipient, they may provide an alternative means to allow that individual to use the information and data. However, no grantee will be required to provide information services to a person with disabilities at any location other than the location at which the information services are generally provided

(12) Your Application Will Be Declared Ineligible for Any of the Following Reasons:

(a) Failure to meet Civil Rights Threshold Requirements under this Notice of Funding Availability. You fail to meet those requirements if you or any subrecipient or consultant/contractor:

(i) Has been charged with a systemic violation of the Fair Housing Act by the Secretary alleging ongoing discrimination;

(ii) Is a defendant in a Fair Housing Act lawsuit filed by the Department of Justice alleging an ongoing pattern or practice of discrimination; or

(iii) Has received a letter of noncompliance findings under Title VI, Section 504, or Section 109.

Note: HUD will not rate and rank your application if the charge, lawsuit, or letter of findings has not been resolved to the satisfaction of the Department before the application deadline stated in this NOFA. HUD's decision regarding whether a charge, lawsuit, or a letter of findings has been satisfactorily resolved will be based upon whether appropriate actions have been taken to address allegations of ongoing discrimination in the policies or practices involved in the charge, lawsuit, or letter of findings.

(b) Debarment and Suspension. If you are presently debarred, suspended, proposed for debarment, declared ineligible, or voluntarily excluded from covered transactions by any Federal department or agency.

(c) Award Caps. If you request funding in excess of the maximum allowed under this Component. Any amount over the award cap, even if less than one dollar, will be considered excessive. In addition, inconsistencies in the amount requested and/or miscalculations that result in amounts over the award caps will be considered excessive.

(d) Research Activities. If your project is aimed solely or primarily at research, including but not limited to surveys or questionnaires.

(e) Partnership Requirements. Proposed activities that will not be performed by a partnership.

(13) Ineligible Activities

(a) Fair Housing and Free Speech. None of the amounts made available under this NOFA may be used to investigate or prosecute under the Act any activity engaged in by one or more persons, including the filing or maintaining of a non-frivolous legal action, that is protected by the First Amendment to the U.S. Constitution. This includes activities engaged in for the purpose of achieving or preventing action by a government official or entity.

(b) Suits against the United States. No recipient of assistance under this Program may use any funds provided by HUD for the payment of expenses in connection with litigation against the United States (24 CFR 125.104(f)).

(c) Other Litigation. Recipients may not use FHIP funds to settle a claim, satisfy a judgment, or fulfill a court order in any defensive litigation.

(14) Key Personnel

If your organization is selected for award, you must advise HUD whether any key personnel have been convicted of a felony or crime involving fraud or perjury. In advising HUD, you must describe the type of conviction, the date entered and the penalty received and submit a copy of the report from the police or court documenting the conviction. Depending upon the facts, HUD may place special conditions upon the grant.

(15) Program Definitions

The definitions that apply to this NOFA are as follows:

(a) Disability advocacy groups means organizations that have provided for the civil rights of persons with disabilities. This includes organizations such as Independent Living Centers, and cross-disability legal services groups. Organizations must be experienced in providing services to persons with a broad range of disabilities, including physical, cognitive, and psychiatric/mental disabilities. Organizations must demonstrate actual involvement of persons with disabilities throughout their activities, including as staff to the project and as members of the applicant's board of directors.

(b) Enforcement proposals are potential complaints under the Fair Housing Act that are timely, jurisdictional, and well developed, which could reasonably be expected to become enforcement actions if an impartial investigation finds evidence supporting the allegations and the cases proceeded to a resolution with HUD involvement.

(c) Fair Housing Assistance Program (FHAP) Agencies means State and local government agencies that administer laws substantially equivalent to the Fair Housing Act, as described in 24 CFR part 115.

(d) Fair Housing Enforcement Organization (FHO) means an organization engaged in fair housing activities as defined in 24 CFR 125.103.

(e) Operating budget means your organization's total planned budget expenditures from all sources, including the value of in-kind and monetary contributions, in the period for which funding is requested.

(f) Qualified Fair Housing Enforcement Organization (QFHO) means an organization engaged in fair housing activities as defined in 24 CFR 125.103.

(g) Traditional Civil Rights Organizations means non-profit organizations or institutions and/or private entities with a history and primary mission of securing Federal civil rights protection for groups and individuals protected under the Act or substantially equivalent State or local laws and that are engaged in programs to prevent or eliminate discriminatory housing practices.

IV. Application Selection Process

(A) Rating and Ranking

(1) Your application for funding will be evaluated competitively against all other applications submitted under the Model Codes Partnership Component.

(2) You will be awarded points and assigned a score based on the Factors for Award. After eligible applications are evaluated against the Factors for Award and assigned a score, they will be ranked in order according to the score received. A minimum score of seventy (70) points will be considered a cutoff point and an application with a score of 70 points or more will be considered of sufficient quality. An application receiving fewer than seventy (70) points will be considered of insufficient quality for funding.

(B) Factors for Award Used To Evaluate and Rate Applications Submitted Under This Component

The factors for rating and ranking applicants and the maximum points for each factor are provided below. The maximum number of points to be awarded any application is 102. No EZ/EC bonus points will be awarded to applications received under the EOI-National Program, Model Codes Partnership Component.

Court-Ordered Consideration

For any application submitted by the City of Dallas, Texas, for funds under this NOFA for which the City of Dallas is eligible to apply, HUD will consider the extent to which the strategies or plans in the city's application or applications will be used to eradicate the vestiges of racial segregation in the Dallas Housing Authority's low income housing programs. The City of Dallas should address the effect, if any, that vestiges of racial segregation in the Dallas Housing Authority's low income housing programs have on potential participants in the programs covered by this NOFA, and identify proposed actions for remedying those vestiges. HUD may add up to two points to the score based on this consideration. This special consideration results from an order of the U.S. District Court for the Northern District of Texas, Dallas Division. (This Court-Ordered Consideration is limited to applications submitted by the City of Dallas.)

(C) Selections

Only the highest ranked application will be selected for an award.

(D) Tie Breaking

When there is a tie in the overall score, the applicant with the higher score under Rating Factor 3: Soundness of Approach will be ranked higher. If the applicants received the same scores for Rating Factor 3, the applicant with a higher score under Rating Factor 1: Capacity of the Applicant and Relevant Organizational Experience will be ranked higher. If these scores are identical, then the applicant with the request for lower FHIP funding will be ranked higher.

Rating Factor 1: Capacity of Applicant and Relevant Organizational Experience (20 Points)

This factor assesses the relevant and recent experience of your organization to conduct the proposed work. Recent experience is considered to be work underway or completed within the last two years. Unless otherwise specified, the rating of your organization will include any staff and/or partner(s), subrecipient(s), or consultant(s)/contractor(s) who are identified in your application as working with you on undertaking your work activities.

In evaluating your capacity, HUD will take into account information in its files concerning your performance on other FHIP-funded awards measuring program expenditures, timely completion of activities and submission of reports and results in meeting proposed beneficiary or impact targets. HUD will measure your capacity based upon the following criteria:

(a) Organizational Capacity (10 Points)

(i) The extent to which you have the organizational resources necessary to implement your proposed activities on time, your past experience in working with State or local officials, housing industry representatives and organizations, and disability rights organizations and others in consensus building, achieving changes to existing housing and accessibility codes and related items, operating in environments that are not receptive to accessibility requirements, and interacting with officials, representatives, or advocates that have divergent or opposing viewpoints. Include descriptions of your organization and, if applicable, your affiliate chapters, or that of your partner's affiliates or other structure that will be used to ensure the National coverage required by this project.

(ii) Your experience and knowledge of the Fair Housing Act's accessibility requirements, the Fair Housing Accessibility Guidelines, the ANSI A117.1 technical standards, and skill in disseminating information and training to State and local government agencies, housing agencies and/or the public on these requirements and responsibilities.

Your success in achieving demonstrated measurable progress in the implementation of your most recent funded activities. You must describe your organization's past performance record in the projects you cite in support of your capacity and expertise to perform the project for which you are seeking funding under this NOFA. Include a description of the purpose of the past project and what was accomplished. Attach a copy of the funding entity's performance assessment/review of this project. If the project received Federal or HUD funds, include a copy of the most recent SF-269a, Financial Status Report.

If you have not received funding in the past from HUD, HUD will consider your experience in managing projects similar in nature and national scope to the work activities proposed.

(b) Specific Staff Capacity (10 Points)

You must show that you have sufficient, qualified staff who will be available to complete the proposed activities. Provide the following information not just for key personnel (identified in attachments to Rating Factor 3: Soundness of Approach) but for all staff assigned to or hired for this project:

Identify, by name and/or title, all persons who will be assigned to the project. You must describe the knowledge and experience of the proposed overall project director and day-to-day program manager in planning and managing large and complex interdisciplinary programs. In addition, you must ensure that there is adequate staff with knowledge and/or expertise in architectural and building design to assist in the development of building codes for State and local jurisdictions.

Indicate the percentage of time that key personnel will devote to your project. To receive maximum points, your day-to-day program manager must devote a minimum of 75% of his/her time to the project. You may demonstrate capacity by thoroughly describing your prior experience in fair housing. You should indicate how this prior experience will be used in carrying out your proposed activities. Your application must clearly identify those persons who are on staff at the time this application is filed, and those persons who will be assigned at a later date; describe each person's duties and responsibilities and their expertise (including years of experience) to perform project tasks; indicate whether the staff person is assigned to work full-time or part-time (if part-time, indicate the percentage of time each person is assigned to the project).

Rating Factor 2: Need/Distress/Extent of the Problem (25 Points)

In rating this Factor HUD will consider the extent to which your application:

(a) Identifies areas that show where significant amounts of new multifamily housing construction will take place and identifies the State and local jurisdictions that need to add or modify building codes so that they are consistent with the accessibility requirements of the Fair Housing Act, the Fair Housing Accessibility Guidelines, and the ANSI A117.1 technical standards. In order to document the need you must use reports, statistics, and other data sources that are sound and reliable, including, but not limited to, HUD or other Federal, State or local government reports and analyses, relevant economic and/or demographic data, reports and studies from educational institutions/foundations, news articles, and other information that relate to the identified need.

(b) Identifies State and local jurisdictions with codes that: (i) Are consistent with the requirements of the Fair Housing Act and those that need review, (ii) are not consistent with the requirements of the Fair Housing Act and will be targeted for assistance/services offered by this project to ensure that such codes meet the requirements of the Fair Housing Act, Fair Housing Regulations, the Fair Housing Accessibility Guidelines, and the ANSI A117.1 technical standards, and (iii) have no codes and are in need of the assistance/services offered by this project so that they may adopt codes that meet the requirements of the Fair Housing Act, Fair Housing Regulations, the Fair Housing Accessibility Guidelines, and the ANSI A117.1.

Rating Factor 3: Soundness of Approach (35 Points)

This factor considers the approach you will use to conduct the work for which funding is requested. Your response will be evaluated based upon the following criteria:

(a) Statement of Work (10 Points)

The Statement of Work (SOW) must address the strategy, quality and time frames needed to carry out the project as proposed. Use 8 ½ x 11 sheet(s) to specify the activities, the tasks to be performed and by whom, and the specific dates for carrying out these activities and tasks. Further, the applicant must agree to undertake all the activities in accordance with the FY 2001 EOI-National Program, Model Codes Partnership Component and provide appropriate copies of documentation to the HUD Government Technical Representative (GTR) and Government Technical Manager (GTM) assigned to monitor the grant's implementation. In evaluating your SOW, HUD will consider the extent to which you:

(1) Provide a description of the design and objectives of your project and your plan for accomplishing those objectives. Please discuss the following:

(a) Project purpose

(b) Persons to be served

(c) Geographic areas to be served. Applicants that identify a specific number of states and local jurisdictions that will be targeted for the service/activities set forth in this project are expected to adopt consistent building codes as a result of work undertaken by this project and will be rated higher than those that do not.

(d) Proposed activities and who will conduct these activities, you or subrecipients, or consultants/contractors.

(e) The methodology you will use to carryout these activities and tasks.

(2) Provide a work plan that includes the time frame for conducting the activities, milestones for assessing progress and planned results to be achieved, including specific numbers of quantifiable products that will result from your work.

(3) Provide a well-outlined program with national coverage, including States and local governments to be assisted through workshops, one-on-one technical assistance and distance learning opportunities, and your strategy for moving them from education to implementation of the accessibility standards in their building codes.

(4) Provide outreach to states and local governments and technical staff to make them aware of the availability of your assistance using a variety of techniques and media, including your proposed method of distribution, formats and languages to be used in providing information to diverse audiences.

(5) Identifies how you will use your partnering organization(s) and affiliates to address the needs and demands identified and how they will be deployed in support of your work activities;

(6) Identifies specific format, methodology, languages, and materials that are needed to conduct education and outreach to assist State and local jurisdictions in adopting building codes that meet the accessibility standards of the Fair Housing Act, the Fair Housing Regulations, the Fair Housing Accessibility Guidelines, and the ANSI A117.1.

(b) Budget and Financial Controls (15 Points)

In reviewing this subfactor, HUD will consider the extent to which you will be able to (1) sustain your organization's financing to undertake your proposed activities and (2) maintain fiscal responsibility. As part of your response, you must provide a summary budget that identifies costs by category (for your assistance, an enumeration of the budget items and a sample Budget Narrative Work Plan Format are included). In evaluating this factor, HUD will review:

(1) The basis upon which you estimated costs for conducting each of your activities, including budgeted amounts per activity and task, as provided for in the budget work plan format and instructions found below, and that such amounts result in a cost effective plan considering the scope and end products to be achieved.

(2) The extent to which you can demonstrate there are financial controls and accounting procedures in place to account for HUD program funds, leveraged resources and work conducted by participating entities. When evaluating your application under this sub-factor, HUD will take into account internal consistency in numeric responses submitted in your application, audit findings identified in your most recent audits or audit reports on file at HUD or in the OMB audit clearinghouse records, or other information available to the Department on your financial management capability.

HUD also will assess the soundness of your approach by evaluating the following:

The quality, thoroughness and reasonableness of the proposed cost estimates. As part of your response, your summary budget must identify costs by category in accordance with the following as outlined below in the Budget Narrative Work Plan:

(A) Direct Labor by position or individual, indicating the estimated hours per position, the rate per hour, estimated cost per staff position and the total estimated direct labor costs;

(B) Fringe Benefits by staff position, identifying the rate, the salary base on which the rate was computed, estimated cost per position, and the total estimated fringe benefit costs;

(C) Material Costs indicating the item, unit cost per item, the number of items to be purchased, estimated cost per item, and the total estimated material costs;

(D) Transportation Costs, as applicable. Where use of a local private vehicle is proposed, costs must indicate the proposed number of miles, rate per mile of travel identified by item, and estimated total private vehicle costs. Where air transportation is proposed, costs must identify the destination(s), number of trips and passengers per destination, estimated air fare and total estimated air transportation costs. If other transportation costs are listed, you must identify the other method of transportation selected, the number of trips to be made and destination(s), the estimated cost, and the total estimated costs for any other transportation costs;

(E) Per diem, as applicable. You must identify per diem or subsistence costs per travel day and the number of travel days, the estimated costs for per diem/subsistence and the total estimated transportation costs. You must use the Federal Travel Regulation for per diem rate for cities listed under “Transportation Costs” in your cost estimate;

(F) Equipment charges, if any. Equipment charges must identify the type of equipment, quantity, unit costs and total estimated equipment costs;

(G) Consultant Costs, if applicable. Indicate the type, estimated number of consultant days, rate per day, total estimated consultant costs per consultant and total estimated costs for all consultants;

(H) Subcontract Costs, if applicable. Indicate each proposed individual subcontract and amount. Each proposed subcontract must include a separate budget that identifies proposed costs by cost categories. In addition, your project budget must include any costs related to subcontract(s) with FHAP agencies and traditional civil rights organizations that account for activities related to the sub-recipient's role in the project. Your application must include a separate detailed budget for each subcontract. If you have selected sub-recipients or are submitting a joint application with one partner serving as the lead applicant, you must provide the actual subcontract costs;

(I) Other Direct Costs listed by item, quantity, unit cost, total for each item listed, and total direct costs for the award; and

(J) Indirect Costs must identify the type, approved indirect cost rate, base to which the rate applies and total indirect costs.

(K) If you do not have an indirect cost rate and/or you are a single funded organization (funded 100% from one source), you must be able to document direct allocations in all cost categories;

Budget Narrative Workplan Format

Name of Organization:

Budget Period:__months

Position or individual | Estimated hours | Rate per hour | Estimated cost | Federal cost | In-kind cost
|  | $ | $ | $ | $
|  | $ | $ | $ | $
|  | $ | $ | $ | $
|  | $ | $ | $ | $
Total Direct Labor | $ |  |  | $ | $

Fringe benefits | Rate | Base | Estimated cost | Federal cost | In-kind cost
F.I.C.A. |  | $ | $ | $ | $
Unemployment Insurance ¹ |  | $ | $ | $ | $
Health Insurance ² |  | $ | $ | $ | $
Workers Compensation ¹ |  | $ | $ | $ | $
Total Fringe Benefits | $ |  |  | $ | $
¹ Rates may vary by State.
² Rates may vary by organization.

Materials | Quantity | Unit cost | Estimated cost | Federal cost | In-kind cost
|  | $ | $ | $ | $
|  | $ | $ | $ | $
|  | $ | $ | $ | $
|  | $ | $ | $ | $
Total materials | $ |  |  | $ | * $
* Materials/Equipment prices must be supported by vouchers/cash register receipts of same or similar item or lease quotes from vendor at time of budget negotiation.

Local travel | Mileage/fare | Rate/mile | Estimated cost | Federal cost | In-kind cost
|  | $ | $ | $ | $
|  | $ | $ | $ | $
Subtotal local travel | $ |  |  | $ | $

Air travel destination | Number of travelers | Roundtrip fare | Estimated cost | Federal cost | In-kind cost
| $ | $ | $ | $ | $
Subtotal Air Travel | $ |  |  | $ | $

Other travel items | Quantity | Unit cost | Estimated cost | Federal cost | In-kind cost
|  | $ | $ | $ | $
|  | $ | $ | $ | $
Subtotal other travel | $ |  |  | $ | $

Per diem subsistence | Number of travelers | Number of days/rate per day | Estimated cost | Federal cost | In-kind cost
|  |  | $ | $ | $
Per Diem Subsistence | $ |  |  | $ | $
Total Travel | $ |  |  | $ * | $
* All travel must be grant related and rates cannot exceed the Federal rate.

Equipment | Quantity | Unit cost | Estimated cost | Federal cost | In-kind cost
|  | $ | $ | $ | $
|  | $ | $ | $ | $
|  | $ | $ |  | $
Total Equipment costs | $ |  |  | $ ** | $
** Lease/purchase of equipment must be supported by three quotes at time of budget negotiation.

Consultants | Days | Rate per day | Estimated cost | Federal cost | In-kind cost
|  | $ | $ | $ | $
|  | $ | $ | $ | $
|  | $ | $ | $ | $
|  | $ | $ | $ | $
|  | $ | $ | $ | $
Total consultants | $ |  |  | $ *** | $
*** Daily rate cannot exceed $440 per day unless waiver is obtained from Grant Officer.

Subcontracts | Rate/service | Quantity | Estimated cost | Federal cost | In-kind cost
|  |  | $ | $ | $
Total subcontracts | $ |  |  | $ * | $
* When individual subcontract fees exceed 10% of your grant amount, an itemized budget is required.

Other direct | Quantity | Unit cost | Estimated cost | Federal cost | In-kind cost
| $ | $ | $ | $ |
| $ | $ | $ | $ |
| $ | $ | $ | $ |
| $ | $ | $ | $ |
Total other direct | $ |  |  | $ | $

Indirect | Rate | Base | Estimated cost | Federal cost | In-Kind cost
| ** |  | $ | $ | $
Total Indirect | $ |  |  | $ | $
Total estimated cost:
Total cost | $ |  |  | $ | $
Amount To Enter on Form 424 Funding Matrix | $ |  |  | $ | $
** If you have a Federally negotiated indirect rate, you must use that rate as the appropriate base in this section. In all other instances, you must include your current overhead rate, if any, which has been tailored to your organization's operating budget. The rate and base used here is illustrative only.

(c) Description of Proposed Activities (10 Points)

Conduct your proposed activities in a manner (e.g., languages, formats, locations, distribution, use of minority and disability rights media) to best achieve the purpose of the activities and reach State and local building code officials who work with the State and local building code permit and review process. In reviewing this subfactor, HUD will evaluate:

(1) The extent to which your project is cost effective in achieving the anticipated results as well as an indication of other sources of funds that will be used on the project; and

(2) The extent to which you demonstrate your ability to conduct education and outreach to assist State and local jurisdictions in adopting building codes that meet the accessibility standards of the Fair Housing Act, the Fair Housing regulations, the Fair Housing Accessibility Guidelines, and the ANSI A117.1 technical standards.

Rating Factor 4: Leveraging Resources (10 Points)

This factor addresses your ability to secure financial or in-kind resources on a national scale that can be combined with HUD's program resources to achieve your project purpose. This would include State and local building code organizations, members of the building industry, disability advocacy groups, fair housing organizations, and other experts on accessibility laws. HUD encourages you to secure resources from sources other than what is requested from this program. Resources may include funding or in-kind contributions, such as work space or services or equipment, allocated to the purpose(s) of the proposal. Resources may be provided by governmental entities (including other HUD programs), public or private non-profit organizations, for-profit private organizations, or other entities willing to work with you.

To be considered for points under this factor you must submit documented evidence of firm commitments from the entities that are providing support for your program. Each letter of firm commitment must:

(i) Identify the organization(s) and/or individual(s) committing resources to the project,

(ii) Identify the amounts of the leveraged resources (the total FHIP and non-FHIP amounts must match those in your proposed budget submitted under Factor 3),

(iii) Describe how these resources will be used as part of your SOW,

(iv) Identify the date the leveraged resources will be made available and a statement indicating that they will be available for a period of time during the life of the award, and

(v) Any terms and conditions affecting the receipt of the leveraged resources other than receipt of a FHIP-EOI—Model Code Component award. The letter must be signed by the individual or organization official legally able to make commitments for the organization. If the resources are in-kind or donated goods, the commitment letter must indicate the dollar value of those resources.

To receive points for this factor, the letters of commitment must be submitted with the application and be dated no earlier than the publication date of this NOFA. The larger the extent of the leveraged resources made available to support your program, the greater number of points that you will receive under this factor. No points will be awarded for general letters of support endorsing the project from organizations and/or individuals (including elected officials) in your community. The commitment must be firm, even if there is a condition that the commitment will only be made if an award is made under this NOFA.

If your project will not be supported by non-FHIP resources, then you will not receive any points under this factor. Points will be assigned based on the following scale:

Two (2) points will be awarded if your project will be supported by non-FHIP funds, but those funds are less than 5% of the project's total costs from non-FHIP funds. Four (4) points will be awarded if more than 5%, but less than 10% of the project's total costs are from non-FHIP funds.

Six (6) points will be awarded if more than 10% but less than 20% of the project's total costs are from non-FHIP funds.

Eight (8) points will be awarded if more than 20% but less than 30% of the project's total costs are from non-FHIP funds.

Ten (10) points will be awarded if more than 30% of the projects total costs are from non-FHIP funds.

Rating Factor 5: Comprehensiveness and Coordination (10 Points)

This factor addresses the extent to which you coordinate your activities with other groups and organizations that are doing similar work in order to avoid duplicate products and to create linkages to similar programs. In evaluating this factor HUD will consider the extent to which you demonstrate:

(a) How You Will Select, Coordinate and Work With Groups or Organizations in the Parts of the Country You Have Selected To Carry Out Your Proposed National Activities. (5 Points)

This includes a discussion on how FHIP-funded activities will augment and improve on-going efforts by State and local building code organizations, members of the building industry, disability advocacy groups, fair housing organizations, and other experts on accessibility laws in the target area. Applicants should coordinate their efforts with HUD's Community Development Technical Assistance grantees (HOME TA) through various communities' Consolidated Planning process (including the Analysis of Impediments to Fair Housing Choice). HOME TA State and local jurisdictions are to provide assistance to facilitate the exchange of information on program design and accessibility and building construction techniques.

(b) Outreach Activities To Promote Awareness of Project Activities. (5 Points)

This includes: (i) the identification of audiences in different parts of the country, (ii) a discussion of how your proposed activities will target audiences in different parts of the country, (iii) an explanation of how your project will promote coordination with various members of the building industry, disability advocacy groups, fair housing organizations, and other experts on accessibility laws in different parts of the country. At a minimum, your application should discuss procedures you will use to promote awareness of the services provided by your proposal.

(E) Applicant Notification and Award Procedures

(1) Notification. No information will be available to you during the period of HUD evaluation, approximately 90 days, except for notification in writing or by telephone if HUD determines your application is ineligible or has technical deficiencies. The selection will be announced by HUD when the evaluation and selection process is completed, and the award will be subject to final negotiations with HUD.

(2) Negotiations. In cases where HUD cannot successfully conclude negotiations with a selected applicant or a selected applicant fails to provide HUD with requested information, an award will not be made to that applicant. When this occurs, HUD may offer an award to the next highest ranked applicant, and negotiate with that applicant. HUD will negotiate only with the person identified in the application as the Director of the organization or if specifically identified in the application, the Project Director.

(3) Information Release. HUD will not discuss or negotiate with third parties (i.e., subcontractors, etc.).

(4) Funding Instrument. HUD expects to award a cost reimbursable or fixed-price cooperative or grant agreement to the applicant selected for award. HUD reserves the right to select the funding instrument it believes is most appropriate once the negotiations are completed.

(5) Adjustments to Grant Amounts. HUD may approve an application for an amount lower than the amount requested, fund only portions of your application, withhold funds after approval, and/or require that special conditions be added to your grant agreement, in accordance with 24 CFR 84.14, the requirements of this NOFA, or where:

(i) HUD determines the amount requested for one or more eligible activities is unreasonable or unnecessary;

(ii) An ineligible activity is proposed in an otherwise eligible project; The past record of key personnel warrants special conditions, or The Selecting Official determines it is in the best interests of the Program.

(6) Performance Sanctions. A grantee or sub-recipient or consultant/contractor failing to comply with the procedures set forth in its grant agreement will be liable for such sanctions as may be authorized by law, including repayment of improperly used funds, termination of further participation in the FHIP, and denial of further participation in programs of HUD or any other Federal agency.

V. Application Submission Requirements

Your application must include the following items and be completed/assembled in an organized manner:

SF-424 Application for Federal Assistance

HUD SF-424M—Funding Matrix

F-424A—Budget Information for Non-Construction Programs

SF-424B—Assurances for Non-Construction Programs

HUD-50070—Certification of Drug Free Workplace

HUD-50071—Certification of Payments to Influence Federal Transactions

SF-LLL—Disclosure of Lobbying Activities (if applicable)

HUD-2880—Applicant Recipient Disclosure/Update Form

HUD-2992—Certification Regarding Debarment and Suspension

HUD-2993—Acknowledgment of Receipt of Applications. (If you wish to confirm that HUD received your application, please complete this form. Completion of this form is optional.)

HUD-2994—Client Comment and Suggestion. (If you wish to offer comments on the Model Codes Partnership Component NOFA, please complete this form. Completion of this form is optional.)

In addition, your application must also contain the following items:

(A) Transmittal Letter. Your transmittal letter must identify: (1) the dollar amount requested, (2) the specific FHIP Initiative, and the specific Component for which you are applying.

(B) Narrative Statement. Respond completely to each of the five Factors for Award. Failure to provide the required information in the appropriate Factor will result in a lower score for that Factor—for example, information in the Project Abstract, although useful for developing a project synopsis, will not be considered when evaluating applications. The narrative responses must not exceed 10 pages per factor (required attachments are not counted); text must be double-spaced and pages numbered consecutively (starting with Factor 1 through the end of Factor 5). Please use Courier 12 as the typeface or font for your narrative responses.

(C) Audit Information. You must submit a certification from an Independent Public Accountant or the cognizant government auditor, stating that the financial management system employed by you meets prescribed standards for fund control and accountability required by: OMB Circular A-133, Audits of States, Local Governments and Non-Profit Organizations; OMB Circular A-110 (as codified at 24 CFR part 84), Uniform Administrative Requirements for Grants and Agreements With Institutions of Higher Education, Hospitals, and other Non-Profit Organizations; and/or OMB Circular A-102 (as codified at 24 CFR Part 85) Uniform Administrative Requirements for Grants and Cooperative Agreements to State, Local and Federally Recognized Indian Tribal Governments. This information must contain the name and telephone number of the Independent Auditor, cognizant Federal auditor, or other audit agency, as applicable.

(D) Page Limitation. The narrative response for each of the five Factors for Award is limited to ten pages per factor (this page limit does not include the attachments or documents that may be required by a particular factor). Narrative pages exceeding the ten-page limit, including unrequested items, such as brochures and news articles, will not be considered. The text must be double-spaced (points will be deducted for failing to comply with this requirement), and pages must be numbered consecutively (from the beginning of the Factor 1 narrative to the end of the Factor 5 narrative). You are encouraged to use Courier 12 as the typeface or font for your narrative responses. You must respond fully to each factor. Failure to provide narrative responses to all factors, omitting requested information, and not having your application completed/assembled will result in full points not being allocated under the Factors for Award, which may significantly affect your overall score.

VI. Corrections to Deficient Applications

After the application due date, HUD may not, consistent with its regulations in 24 CFR part 4, subpart B, consider any unsolicited information you, the applicant, may want to provide. HUD may contact you, however, to clarify an item in your application or to correct technical deficiencies. You should note, however, that HUD may not seek clarification of items or responses that improve the substantive quality of your response to any rating factor. In order not to unreasonably exclude applications from being rated and ranked, HUD may, however, contact applicants to ensure proper completion of the application and will do so on a uniform basis for all applicants. Examples of curable (correctable) technical deficiencies include your failure to submit the proper certifications or your failure to submit an application that contains an original signature by an authorized official. In each case, HUD will notify you in writing by describing the clarification or technical deficiency. The notification from HUD to applicants will be by facsimile or by mail, return receipt requested. You must submit clarifications or corrections of technical deficiencies in accordance with the information provided by HUD within 14 calendar days of the date of receipt of the HUD notification. If your deficiency is not corrected within this time period, HUD will reject your application as incomplete, and it will not be considered for funding.

VII. Findings and Certifications

(A) Paperwork Reduction Act Statement

The information collection requirements contained in this NOFA have been approved by the Office of Management and Budget, under the Paperwork Reduction Act of 1995 (44 U.S.C. 3501-3520) and assigned OMB Control Number 2539-0033. An agency may not conduct or sponsor, and a person is not required to respond to, a collection of information unless the collection displays a valid control number.

(B) Environmental Impact

This NOFA is a policy document that provides for assistance in promoting fair housing and nondiscrimination. Accordingly, under 24 CFR 50.19(c)(3), this NOFA is categorically excluded from environmental review under the National Environmental Policy Act (42 U.S.C. 4321).

(C) Environmental Review

In accordance with 24 CFR 50.19(b)(9) and (12) of HUD regulations, activities assisted under this program are categorically excluded from the requirements of the National Environmental Policy Act and are not subject to environmental review under related laws and authorities.

(D) Executive Order 13132, Federalism

Executive Order 13132 (entitled “Federalism”) prohibits, to the extent practicable and permitted by law, an agency from promulgating policies that have federalism implications and either impose substantial direct compliance costs on State and local governments and are not required by statute, or preempt State law, unless the relevant requirements of section 6 of the Executive Order are met. This NOFA does not have federalism implications and does not impose substantial direct compliance costs on State and local governments or preempt State law within the meaning of the Executive Order.

(E) Prohibition Against Lobbying Activities

You are subject to the provisions of section 319 of the Department of Interior and Related Agencies Appropriation Act for Fiscal Year 1991, 31 U.S.C. 1352 (the Byrd Amendment), which prohibits recipients of Federal contracts, grants, or loans from using appropriated funds for lobbying the executive or legislative branches of the Federal Government in connection with a specific contract, grant, or loan. You are required to certify, using the certification found at Appendix A to 24 CFR part 87, that you will not, and have not, used appropriated funds for any prohibited lobbying activities. In addition, you must disclose, using Standard Form LLL, “Disclosure of Lobbying Activities,” any funds, other than Federally appropriated funds, that will be or have been used to influence Federal employees, members of Congress, and congressional staff regarding specific grants or contracts. Tribes and tribally designated housing entities (TDHEs) established by an Indian tribe as a result of the exercise of the tribe's sovereign power are excluded from coverage of the Byrd Amendment, but tribes and TDHEs established under State law are not excluded from the statute's coverage.

(F) Section 102 of the HUD Reform Act; Documentation and Public Access Requirements

Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992 (57 FR 1942), HUD published a notice that also provides information on the implementation of section 102. The documentation, public access, and disclosure requirements of section 102 apply to assistance awarded under this NOFA as follows:

(1) Documentation and public access requirements. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) and HUD's implementing regulations in 24 CFR part 15.

(2) Disclosures. HUD will make available to the public for 5 years all applicant disclosure reports (HUD Form 2880) submitted in connection with this NOFA. Update reports (update information also reported on Form 2880) will be made available along with the applicant disclosure reports, but in no case for a period less than 3 years. All reports—both applicant disclosures and updates—will be made available in accordance with the Freedom of Information Act (5 U.S.C. 552) and HUD's implementing regulations at 24 CFR part 5.

(3) Publication of Recipients of HUD Funding. HUD's regulations at 24 CFR 4.7 provide that HUD will publish a notice in the Federal Register on at least a quarterly basis to notify the public of all decisions made by the Department to provide:

(i) Assistance subject to section 102(a) of the HUD Reform Act; or

(ii) Assistance that is provided through grants or cooperative agreements on a discretionary (non-formula, non-demand) basis, but that is not provided on the basis of a competition.

(G) Section 103 HUD Reform Act

HUD's regulations implementing section 103 of the Department of Housing and Urban Development Reform Act of 1989 (42 U.S.C. 3537a), codified in 24 CFR part 4, subpart B, apply to this funding competition. The regulations continue to apply until the announcement of the selection of successful applicants. HUD employees involved in the review of applications and in the making of funding decisions are limited by the regulations from providing advance information to any person (other than an authorized employee of HUD) concerning funding decisions, or from otherwise giving any applicant an unfair competitive advantage. Persons who apply for assistance in this competition should confine their inquiries to the subject areas permitted under 24 CFR part 4.

Applicants or employees who have ethics related questions should contact the HUD Ethics Law Division at (202) 708-3815. (This is not a toll-free number.) For HUD employees who have specific program questions, the employee should contact the appropriate field office counsel, or Headquarters counsel for the program to which the question pertains.

(H) Catalogue of Federal Domestic Assistance

The Catalogue of Federal Domestic Assistance number is: 14.409.

Authority: Section 561 of the Housing and Community Development Act of 1987, as amended (42 U.S.C. 3616 note) (establishing the FHIP) and HUD's implementing regulations (24 CFR part 125).

Dated: July 19, 2001.
Floyd May,
Deputy Assistant Secretary for Operations and Management.

Appendix A

FHEO Field Structure—Office of Fair Housing and Equal Opportunity
FHEO Offices | Directors | Telephone No. | Area covered
Boston Hub: Thomas P. O'Neill,Federal Bldg., 10 Causeway Street, Room 375, Boston, MA 02222-1092 | Marcella Brown | (617) 565-6977 | MA, CT, ME, VT, RI.
New York City Hub: 26 Federal Plaza, New York, NY 10278-0068 | Stanley Seidenfeld | (221) 264-1290 | NY, NJ.
Philadelphia Hub: The Wanamaker Building, 100 Penn Square East, Philadelphia, PA 19107-0068 | Wanda S. Nieves | (215) 656-0647 | PA, MD, VA, DC, WV, DE.
Atlanta Hub: Richard B. Russell, Federal Building, 75 Spring Street, S.W., Atlanta, GA 30303-3388 | Gregory King | (404) 331-5001 | GA, AL, MS, FL, Puerto Rico, KY TN, NC, SC.
Chicago, Hub: Ralph H. Metcalfe, Federal Building, 77 West Jackson Boulevard, Chicago, IL 60604-3507 | Barbara Knox | (312) 353-3776 | IL, MN, MI, WI, OH, IN.
Fort Worth Hub: 1600 Throckmorton Street, Fort Worth, TX 76113-2905 | [Vacant] | (817) 978-9271 | TX, AR, OK, LA, NM.
Kansas City Hub: Gateway Tower II, 400 State Avenue, Kansas City, KS 66101-2406 | Robbie Herndon | (913) 551-6958 | KA, MO, NE, IA.
Denver Hub: 633 17th Street, Denver, CO 80202-3607 | Sharon Santoya (Acting) | (303) 672-5434 | CO, UT, WY, SD, ND, MT.
San Francisco Hub: Phillip Burton Federal Bldg., 450 Golden Gate Avenue, San Francisco, CA 94102-3448 | Chuck E. Hauptman | (415) 436-6569 | CA, HI, NV, AZ, Guam.
Seattle Hub: Seattle Federal Office Bldg., 909 1st Avenue, Suite 200, Seattle, WA 98104-1000 | Judith Keeler | (206) 220-5170 | WA, OR, ID.

Appendix B

Checklist for Completeness of Application

Use this checklist to ensure that your application includes all required items

Copy of SF-424 (Place a copy of the SF-424 and attached HUD-424-M (Matrix) on top of application package. This should not be the originals.

• Transmittal Letter

• Cover Page

• Checklist

• Project Abstract (briefly summarize purpose, activities, and population(s) and geographic areas to be served)

• Factor No. 1 Response

• Factor No. 2 Response

• Factor No. 3 Response

Attachments to Factor 3

• Proposed Statement of Work

• Proposed Budget Narrative and SF-424A

• Factor No. 4 Response

• Factor No. 5 Response

Attachments to Factor 5

• Partnership Component—Letter(s) of Firm Commitment

Application Forms and Certifications

• SF-424 Application for Federal Assistance and HUD-424-M (Matrix)

• SF-424-A Budget Information—Non-construction Programs

• SF-424 B Standard Assurances—Non-construction Programs

• Applicant Disclosure Report (HUD-2880)

• Certification of Payments to Influence Federal Transactions (HUD-50071)

• OMB SF-LLL Disclosure of Lobbying Activities

• Certification for a Drug-Free Workplace (HUD-50070)

• Certification of Consistency with the EZ/EC Strategic Plan (HUD-2990), if applicable

• Certification of Consistency with the Consolidated Plan (HUD-2991)

• Certification Regarding Debarment and Suspension (HUD-2992)

• List of Current or Pending Financial Agreements

• Acknowledgment of Application Receipt (HUD-2993)

• Client Comments and Suggestions (HUD-2994)

Cover Page FY 2000 FHIP Application

An application is submitted to the Component checked below. Submit an application and 5 copies.

Applicant Name_______

Catalog of Federal Domestic Initiative/Component Assistance No.

• Education and Outreach Initiative-National Program, Model Codes Partnership Component 14-409

Appendix C

FHAP Agency Names & Addresses

New England Region

Connecticut

State Agency:

Ms. Cynthia Watts Elder, Executive Director, Connecticut Commission on Human Rights and Opportunities, 21 Grand Street, Hartford, CT 06106, 541-3400

Massachusetts

State Agency:

Ms. Dorca Gomez, Chairperson, Massachusetts Commission Against Discrimination, Room 601, 1 Ashburton Place, 6th Floor, Boston, MA 02108, 727-3990

Localities:

Ms. Victoria L. Williams, Director, Boston Fair Housing Commission, City of Boston Office of Civil Rights, One City Hall Plaza, Suite 906, Boston, MA 02201, (617) 635-4408

Mr. Quoc Tran, Executive Director, Cambridge Human Rights Commission, 51 Inman Street, 2nd Floor, Cambridge, MA 02139, 349-4396

Rhode Island

State Agency:

Mr. Gene L. Booth, Executive Director, Rhode Island Commission for Human Rights, 10 Abbott Park Place, Providence, RI 02903-3768, 222-2661

Vermont

State Agency:

Mr. Harvey Golubock, Executive Director, Vermont Human Rights Commission, 135 State Street, Drawer 33, Montpelier, VT 05633-6301, (802) 828-2480

New York/New Jersey Region

New York

State Agency:

Ms. Evonne W. Gennings-Tolbert, Commissioner, New York State Division of Human Rights, 13th Floor, 55 West 125th Street, New York, NY 10027, 961-8671

Localities:

S. Ram Nagubandi, Acting Commissioner of Human Rights, Rockland County Commission on Human Rights, 50 Sanatorium Road, Building P, Pomona, NY 10970, (914) 364-2195

Mid-Atlantic Region

Delaware

State Agency:

Ms. Juana Fuentes-Bowles, Executive Director, Delaware Division of Human Relations, State Office Building, 820 North French Street, 4th Floor, Wilmington, DE 19801, 577-5050

Maryland

State Agency:

Mr. Henry B. Ford, Executive Director, Maryland Commission on Human Relations, William Donald-Schafer Towers, 6 St. Paul Street, Suite 900, Baltimore, MD 21202, 767-8600

Pennsylvania

State Agency:

Mr. Homer C. Floyd, Executive Director, Pennsylvania Human Relations Commission, 101 South Second Street, Suite 300, Harrisburg, PA 17105, 787-4410

Localities:

Mr. Charles F. Morrison, Director, Pittsburgh Human Relations Commission, 908 City-County Building, Pittsburgh, PA 15219, 255-2600

Ms. Diana Rivera-O'Bryant, Executive Director, Reading Commission on Human Relations, 815 Washington Street, Reading, PA 19601, (610) 655-6141

Ms. Cathy Ash, Executive Director, York City Human Relations Commission, 225 E. Princess Street, York, PA 17403, (717) 846-2926

Virginia

State Agency:

Ms. Lizbeth T. Hayes, Investigator Supervisor, Virginia Department of Professional and Occupational Regulation, Fair Housing Administration, Real Estate Board, 5th Floor, 3600 West Broad Street, Richmond, VA 23230-4917, 367-8530

West Virginia

State Agency:

Mr. Irvin B. Lee, Executive Director, West Virginia Human Rights Commission, 1321 Plaza East, Room 106, Charleston, WV 25301, 558-2616

Localities:

Mr. Marshall Moss, Executive Director, Charleston Human Rights Commission, 915 Quarrier Street, Suite 6, Charleston, WV 25301-1400, 348-6880

Ms. Sally M. Lind, Executive Director, Huntington Human Relations Commission, 824 Fifth Avenue, Suite 200, Huntington, WV 25701, 696-5592

District of Columbia

Mr. Charles F. Holman, III, Director, District of Columbia Office of Human Rights, 441 4th Street, NW., Washington, DC 20001, (202) 727-3900

Southeast/Caribbean Region

Florida

State Agency:

Mr. Derick Daniels, Executive Director, Florida Commission on Human Relations, Suite 240, 325 John Knox Road, Building F, Tallahassee, FL 32302, (850) 488-7082

Localities:

Ms. Kamala Corbett, Program Manager, Lee County Office of Equal Opportunity, PO Box 398, Ft. Myers, FL 33901, 335-2179

Ms. Charlene Taylor Hill, Executive Director, Jacksonville Equal Opportunity Commission, 421 West Church Street, Suite 705, Jacksonville, FL 32202, 630-4911

Mr. Albert Nelson, Executive Director, Orlando Human Relations Department, 400 South Orange Avenue, Orlando, FL 32801, 246-2122

Mr. Harry Lamb, Jr., Interim Director, Palm Beach County Office of Human Rights, 215 North Olive Avenue, Suite 130, West Palm Beach, FL 33401, 355-4883

Mr. Leon W. Russell, Human Rights Equal Opportunity Officer, Pinellas County Office of Human Rights, 315 Court Street, Clearwater, FL 34616, (727) 464-4880

Mr. Clarence Scott III, Community Affairs Director, St. Petersburg Human Relations Department, 175 5th Street North, Room 107, St. Petersburg, FL 33701, 893-7345

Mr. Charles F. Hearns, Administrator, Tampa Office of Human Rights, 102 East 7th Avenue, Tampa, FL 33602, 274-5835

Ms. Pat Frank, Chairperson, Hillsborough County Board of County Commissioners, County Center Building, 2nd Floor, 601 East Kennedy, Tampa, FL 33602, (813) 272-5735

Kentucky

State Agency:

Ms. Beverly Watts, Executive Director, Kentucky Commission on Human Rights, 332 West Broadway, 7th Floor, Louisville, KY 40202-0069, 595-4024

Localities:

Mr. William D. Wharton, Executive Director, Lexington-Fayette Urban County Human Rights Commission, 162 East Main Street, Suite 226, Lexington, KY 40507, 252-4931

Ms. Phyllis Atiba-Brown, Director, Louisville and Jefferson County Human Relations Commission, 410 West Chestnut Center, Suite 300a, Louisville, KY 40202, (502) 574-3631

Georgia

State Agency:

Mr. Gordon Joyner, Executive Director and Administrator, Georgia Commission on Equal Opportunity, 710 Cain Tower, Peachtree Center, 229 Peachtree Street, NE, Atlanta, GA 30303-1650, 656-1736

North Carolina

State Agency:

Mr. Eddie Lawrence, Executive Director, North Carolina Human Relations Commission, 217 West Jones Street, Raleigh, NC 27603, (919) 733-7996

Localities:

Mr. Willie Ratchford, Director, City of Charlotte/Mecklenburg County Community Relations Committee (Charlotte), 600 East Trade Street, Charlotte, NC 28202, 336-3380

Mr. Willie Ratchford, Director, City of Charlotte/Mecklenburg County Community Relations Committee (Mecklenburg County), 600 East Trade Street, Charlotte, NC 28202, 336-3380

Ms. Charlotte Caplan, Community Development Director, City of Asheville, 70 Court Plaza, Asheville, NC 28802, 259-5721

Mr. Robert Smith, Executive Director, Asheville/Buncombe County Community Relations Council, 50 South French Broad Avenue, Room 214, Asheville, NC 28801, 252-4713

Mr. Dan Love, Acting Director, Durham Human Relations Commission, 101 City Hall Plaza, Durham, NC 27701, 560-4107

Mr. John E. Shaw, Director, Greensboro Human Relations Department, 300 West Washington Street, Greensboro, NC 27401, 373-2038

Mr. Carl A. Byrd, Sr., Assistant County Manager, New Hanover Human Relations Commission, 402 Chestnut Street, Wilmington, NC 28401, (910) 341-7171

Ms. Annette Moore, Director, Orange County Human Relations Commission, P.O. Box 8181, 110 South Churton Street, Hillsborough, NC 27278, 967-9251

Mr. Eugene Williams, Director, Winston-Salem Human Relations Commission, 2301 North Patterson Avenue, Winston-Salem, NC 27105, (910) 727-2429

Tennessee

State Agency:

Mr. Julius Sloss, Executive Director, Tennessee Human Rights Commission, Capitol Boulevard Building, 530 Church Street, Suite 400, Nashville, TN 37243, (615) 741-5825

Localities:

Mr. Douglas Berry, Director, City of Knoxville Department of Community Development, 400 Main Street, Suite 503, City County Building, Knoxville, TN, 37902, (865) 215-2120

South Carolina

State Agency:

Mr. Jesse Washington, Commissioner, South Carolina Human Affairs Commission, 2611 Forest Drive, Columbia, SC 29240, (803) 737-7800

Midwest Region

Illinois

Localities:

Mr. Sandy Robinson, Manager, Springfield Human Relations Commission and Fair Housing, 227 South Seventh Street, Suite 204, Springfield, IL 62701, 789-2271

Indiana

State Agency:

Ms. Sandra Leek, Executive Director, Indiana Civil Rights Commission, Indiana Government Center North, 100 North Senate Avenue, Room N-103, Indianapolis, IN 46204-2773, 232-2600

Localities:

Ms. Ellen Krulewitch, Director, Elkhart Human Relations Commission, Municipal Building, 229 South Second Street, Elkhart, IN 46516, 294-5471

Ms. Leslie Raymer, Director, Fort Wayne Metropolitan Human Relations Commission, One Main Street, City-County Building, Room 680, Fort Wayne, IN 46802, 427-1146

Ms. Doris Carbins, Executive Director, Gary Human Relations Commission, 475 Broadway, Suite 401, Gary, IN 46402, 883-4151

Ms. Lynn Bloom, Executive Director, Hammond Human Relations Commission, 5925 Calumet Avenue, Room 320, Hammond, IN 46320, 853-6502

Mr. Lonnie Douglas, Executive Director, South Bend Human Relations Commission, 1440 County-City Building, South Bend, IN 46601, 235-9355

Michigan

State Agency:

Ms. Nanette Lee Reynolds, Director, Michigan Department of Civil Rights, Victor Office Center, 201 North Washington, Suite 700, Lansing, MI 48913, 335-3165

Ohio

State Agency:

Mr. G. Michael Payton, Acting Executive Director, Ohio Civil Rights Commission, 220 Parsons Avenue, Columbus, OH 43215-5385, (614) 466-2785

Localities:

Mr. Jerald L. Steed, Executive Director, Dayton Human Relations Council, 130 West 2nd Street, Suite 730, Dayton, OH 45402, 228-5854

Mr. Tim Dobeck, Law Director, Parma Law Department, City of Parma, 6611 Ridge Road, Parma, OH 44129-5593, 885-8132

Mr. Gary Williams, Assistant Director of Law, Shaker Heights Fair Housing Review Board, 3400 Lee Road, Shaker Heights, OH 44120, 491-1440

Southwest Region

Louisiana

State Agency:

Mr. John B. Shepard, Jr., Director, Louisiana Public Protection Division, One American Place, 301 Main Street, 6th Floor, Baton Rouge, LA 70801, (504) 342-7900

Oklahoma

State Agency:

Mr. Kenneth Kendricks, Interim Director, Oklahoma Human Rights Commission, 2101 North Lincoln, Room 480, Oklahoma City, OK 73105, 521-3441

Texas

State Agency:

Ms. Katherine A. Antwi, Interim Executive Director, Texas Commission on Human Rights, 6330 Highway 290 East, Suite 250, Austin, TX 78723, 437-3450

Localities:

Mr. Charles Gorham, Director, Austin Human Rights Commission 206 East 9th Street, 14th Floor, Austin, TX 78701, 499-3251

Mr. L. David Ramos, Interim Director, Department of Human Relations, 1201 Leopard Street, Corpus Christi, TX 78401, (361) 880-3196

Ms. Rosie L. Norris, Fair Housing Administrator, Dallas Office of Housing Compliance, Fair Housing Administrator, 1500 Marilla Street, Room 4D North, Dallas, TX 75201, 670-5334

Ms. Vanessa Ruiz Boling, Director, Fort Worth Human Relations Commission, 1000 Throckmorton Street, Fort Worth, TX 76102, (817) 871-7525

Mr. Jim Slaughter, Managing Director, Garland Office of Housing and Neighborhood Services, 210 Carver Street, Suite 202, Garland, TX 75040, 205-3313

Great Plains

Iowa

State Agency:

Ms. Corlis Moody, Executive Director, Iowa Civil Rights Commission, 211 East Maple Street, 2nd Floor, Des Moines, IA 50309, 281-8084

Localities:

Ms. Louise W. Lorenz, Director, Cedar Rapids Civil Rights Commission, City Hall, Second Floor, Cedar Rapids, IA 52401-1256, 398-5036

Ms. Judith J. Morrell, Director, Davenport Civil Rights Commission, 226 West 4th Street, Davenport, IA 52801, (319) 326-7888

Mr. Floyd A. Jones, Executive Director, Des Moines Human Rights Commission, East First and Des Moines Street, Des Moines, IA 50309, 283-4284

Ms. Kelly Larson, Executive Director, Dubuque Human Rights Department, City Hall Annex, Main Street, Dubuque, IA 52001-4932, 589-4190

Mr. Walter Reed, Jr., Executive Director, Waterloo Commission on Human Rights, 620 Mulberry Street, Suite 101, Waterloo, IA 50703, (319) 291-4441

Mr. Lionel J. Foster, Director, Mason City Human Rights Commission, 10 First Street, NW, Mason City, IA 50401, 421-3618

Mr. Rehelio A. Samuel, Executive Director, Lawrence Human Relations Commission, 6 East 6th Street, Room 315, Lawrence, KS 66044, (785) 832-3310

Ms. Joyce Keys, Director, Olathe Human Relations Commission, Housing and Human Services, City of Olathe, 100 West Santa Fe, PO Box 768, Olathe, KS 66061, 393-6260

Ms. Kaye J. Crawford, Acting Executive Director, Salina Human Relations Department, 300 West Ash, PO Box 736, Salina, KS 67401, (785) 826-7330

Mr. Elias L. Garcia, Executive Director, City of Topeka Human Relations Commission, 215 S.E. 7th Street, room 170, Topeka, KS 66603, (785) 368-3607

Missouri

State Agency:

Ms. Donna Cavitte, Executive Director, Missouri Commission on Human Rights, Department of Labor and Industrial Relations, PO Box 1129, 3315 West Truman Boulevard, Suite 212, Jefferson City, MO 65102, (573) 522-1019

Localities:

Mr. Michael Bates, Director, Kansas City (MO) Human Relations, City Hall, 4th Floor, 414 East 12th Street, Kansas City, MO 64106, 513-1836

Nebraska

State Agency:

Mr. Alfonzo Whitaker, Executive Director, Nebraska Equal Opportunity Commission, State Office Building, 5th Floor 301 Centennial Mall, South Lincoln, NE 68509-4934, 471-2024

Localities:

Ms. Kellie Paris-Asaka, Director, Omaha Human Relations Department, Omaha/Douglas Civic Center, 1819 Farnam Street, Suite 502, Omaha, NE 68183-0502, 444-5055

Rocky Mountains

Colorado

State Agency:

Mr. H. Rene Ramirez, Director, Colorado Civil Rights Division, 1560 Broadway, Suite 1050, Denver, CO 80202, 894-2997

North Dakota

State Agency:

Mr. Mark D. Bachmeier, Deputy Commissioner, North Dakota Department of Labor, State Capitol—13th Floor 600 E Boulevard Avenue, Department 406, Bismarck, ND 58505-0340, (701) 328-3708

Utah

State Agency:

Mr. Joseph Gallegos, Jr., Director, Utah Anti-Discrimination Division, 160 East 300 South, Salt Lake City, UT 84114, 530-6435

Pacific/Hawaii Region

Arizona

State Agency:

Ms. Virginia Herrera-Gonzales, Chief Counsel, Civil Rights and Conflict Resolution Section, Arizona Attorney General's Office, 1275 West Washington Street, Phoenix, AZ 85007-2926, 542-5263

Localities:

Mr. Lionel D. Lyons, Director, City of Phoenix Equal Opportunity Department, 251 West Washington St., 7th Floor, Phoenix, AZ 85003, 262-7716

California

State Agency:

Mr. Dennis Hayashi, Director, California Department of Fair Employment and Housing, 2014 “T” Street, Suite 210, Sacramento, CA 95812, 227-2873

Hawaii

State Agency:

Mr. William D. Hoshijo, Executive Director, Hawaii Civil Rights Commission, 830 Punchbowl Street, Room 411, Honolulu, HI 96813, 586-8636

Northwest/Alaska Region

State Agency:

Ms. Susan J. Jordan, Executive Director, Washington State Human Rights Commission, 711 South Capitol Way, #402, Olympia, WA 98504-2490, (360) 753-6770

Localities:

Ms. Bailey Delongh, Manager, King County Office of Civil Rights and Compliance, 400 Yesler Way, Room 260, Seattle, WA 98104-2628, 296-7592

Ms. Germaine Covington, Executive Director, Seattle Human Rights Department, Artic Building, 2nd Floor, 700 Third Avenue, Suite 250, Seattle, WA 98104-1849, 684-4500

Mr. Allen Correll, Executive Director, Tacoma Human Rights Department, 747 Market Street, Suite 836, Tacoma, WA 98402, (253) 591-5151

Appendix D

Forms and Certifications

BILLING CODE 4210-28-P

[FR Doc. 01-18568 Filed 7-24-01; 8:45 am]

BILLING CODE 4210-28-C